DEPARTMENT OF LABOR

Mine Safety and Health Administration

Petitions for Modification

AGENCY: Mine Safety and Health Administration, Labor.

ACTION: Notice of petitions for modification of existing mandatory safety standards.

SUMMARY: Section 101(c) of the Federal Mine Safety and Health Act of 1977 and 30 CFR Part 44 govern the application, processing, and disposition of petitions for modification. This notice is a summary of petitions for modification filed by the parties listed below to modify the application of existing mandatory safety standards published in Title 30 of the Code of Federal Regulations.

DATES: All comments on the petitions must be received by the Office of Standards, Regulations, and Variances on or before December 19, 2008.

ADDRESSES: You may submit your comments, identified by “docket number” on the subject line, by any of the following methods:

1. Electronic Mail: Standards-Petitions@dol.gov.

2. Facsimile: 1-202-693-9441.

3. Regular Mail: MSHA, Office of Standards, Regulations, and Variances, 1100 Wilson Boulevard, Room 2350, Arlington, Virginia 22209, Attention: Patricia W. Silvey, Director, Office of Standards, Regulations, and Variances.

4. Hand-Delivery or Courier: MSHA, Office of Standards, Regulations, and Variances, 1100 Wilson Boulevard, Room 2350, Arlington, Virginia 22209, Attention: Patricia W. Silvey, Director, Office of Standards, Regulations, and Variances.

MSHA will consider only comments postmarked by the U.S. Postal Service or proof of delivery from another delivery service such as UPS or Federal Express on or before the deadline for comments. Individuals who submit comments by hand-delivery are required to check in at the receptionist desk on the 21st floor.

Individuals may inspect copies of the petitions and comments during normal business hours at the address listed above.

FOR FURTHER INFORMATION CONTACT: Barbara Barron, Office of Standards, Regulations, and Variances at 202-693-9447 (Voice), barron.barbara@dol.gov (E-mail), or 202-693-9441 (Telefax). [These are not toll-free numbers.]

SUPPLEMENTARY INFORMATION:

I. Background

Section 101(c) of the Federal Mine Safety and Health Act of 1977 (Mine Act) allows the mine operator or representative of miners to file a petition to modify the application of any mandatory safety standard to a coal or other mine if the Secretary determines that: (1) An alternative method of achieving the result of such standard exists which will at all times guarantee no less than the same measure of protection afforded the miners of such mine by such standard; or (2) that the application of such standard to such mine will result in a diminution of safety to the miners in such mine. In addition, the regulations at 30 CFR 44.10 and 44.11 establish the requirements and procedures for filing petitions for modifications.

II. Petitions for Modification

Docket Number: M-2008-047-C.

Petitioner: Knight Hawk Coal, LLC, 7290 County Line Road, Cutler, Illinois 62238.

Mine: Prairie Eagle Underground Mine, MSHA I.D. No. 11-03147, located in Perry County, Illinois.

Regulation Affected: 30 CFR 75.1101-1(b) (Deluge-type water spray systems).

Modification Request: The petitioner requests a modification of the existing standard which requires that nozzles attached to the branch lines be full cone, corrosion resistant and provided with blow-off dust covers. The petitioner proposes an alternative method for deluge-type water spray systems installed at belt conveyor drives conditioned upon compliance with the following terms and guidelines: (1) A person trained in the testing procedures specific to the deluge-type water spray fire suppression systems utilized at each belt drive will once weekly: (a) Conduct a visual examination of each of the deluge-type water spray fire suppression systems; (b) conduct a functional test of the deluge-type water spray fire suppression systems and observe its performance; and (c) record the results of the examination and functional test in a book maintained on the surface for that purpose. The petitioner states that: (1) Any malfunction or clogged nozzle detected as a result of the weekly examination or functional test will be corrected; (2) within sixty days after the Proposed Decision and Order becomes final, proposed revisions for part 48 training plans will be submitted to the District Manager for the area in which the mine is located. The provisions will specify the procedure used to conduct the weekly functional test, and initial and refresher training regarding the conditions specified by the Proposed Decision and Order. The petitioner asserts that the proposed alternative method will at all times guarantee no less than the same measure of protection to all miners as would be provided by the existing standard.

Docket Number: M-2008-048-C.

Petitioner: Mountain Edge Mining, Inc., P.O. Box 2226, Beckley, West Virginia 25802-2226.

Mine: Coalburg No. 1 Mine, MSHA I.D. No. 46-09082, located in Boone County, West Virginia.

Regulation Affected: 30 CFR 75.1002 (Installation of electric equipment and conductors; permissibility).

Modification Request: The petitioner requests a modification of the existing standard to permit the use of high-voltage (2,400-volt) continuous mining machines and associated cables. The petitioner states that: (1) The portable transformer that supplies power to the 995-volt tramming motors, essential hydraulic pump motors, and control circuitry on the continuous miner when the miner is trammed into, out of, or around the mine, will not be used to back-feed the 2,400-volt circuits on the continuous miner. The portable transformer used to power the continuous miner for tramming will not be moved when energized; (2) the nominal voltage of power circuits will not exceed 2,400 volts; (3) the nominal voltage of control circuits will not exceed 120 volts; (4) the ground-fault current will be limited by a neutral grounding resistor to not more than 0.5 ampere and if problems are detected, the neutral grounding resistor may be adjusted to limit the ground-fault current to not more than 1.0 ampere; (5) the 1.0 ampere setting cannot be implemented until MSHA inspects the neutral grounding resistor and determines that the neutral grounding resistor and all ground-fault relays are properly adjusted to protect the high-voltage trailing cable; (6) current transformers used for the ground-fault protection will be the single-window type and will be installed to encircle all three-phase conductors; (7) high-voltage circuits will be protected against short-circuits, overloads, ground faults and under-voltage by a circuit-interrupting device of adequate interrupting capacity; and (8) within sixty days after the Proposed Decision and Order becomes final, proposed revisions for part 48 training plans will be submitted to the District Manager for the area in which the mine is located. These proposed revisions will include, but are not limited to, task training, hazard training, specialized training for qualified persons, and annual refresher training. The petitioner has listed additional procedures in this petition that will be used when the proposed alternative method is implemented. Persons may review a complete description of the procedures and training requirements at the MSHA address listed in this notice. The petitioner asserts that the proposed alternative method will at all times guarantee no less than the same measure of protection afforded the miners as the existing standard.

Docket Number: M-2008-003-M.

Petitioner: Zeigler Chemical & Mineral Corp., 366 North Broadway, Suite 210, Jericho, New York.

Mine: Little Bonanza Mines and Mills, MSHA I.D. No. 42-00876, Harrison Mine, MSHA I.D. No. 42-02484, and the Neal #4 Mine, MSHA I.D. No. 42-02317, all located in Uintah County, Utah.

Regulation Affected: 30 CFR 49.2(b) (Availability of mine rescue teams).

Modification Request: The petitioner requests a modification of the existing standard for its gilsonite mines to permit the use of two mine rescue teams with three members and one alternate for each team. The petitioner states that: (1) The underground mine is a small mine and there is hardly enough physical room to accommodate more than three or four miners in the working places; (2) an attempt to utilize five or more rescue team members in the mine's confined working places would result in a diminution of safety to both the miners at the mine and members of the rescue team; (3) no electric power is used in the mines other than battery operated hard hat lights; and (4) all work below ground is done by hand using compressed air which is fed from above ground. The petitioner asserts that a decision in their favor will in no way provide less than the same measure of protection afforded the miners under the existing standard.

Dated: November 13, 2008.
Patricia W. Silvey,
Director, Office of Standards, Regulations, and Variances.

[FR Doc. E8-27406 Filed 11-18-08; 8:45 am]

BILLING CODE 4510-43-P